NUCLEAR REGULATORY COMMISSION

[Docket Nos. 50-237 and 50-249]

Exelon Generation Company, LLC Dresden Nuclear Power Station, Units 2 and 3; Environmental Assessment and Finding of No Significant Impact

The U.S. Nuclear Regulatory Commission (NRC) is considering issuance of an exemption from certain requirements of 10 CFR 50.55a(g)(6)(ii)(A)(2) for Facility Operating License Nos. DPR-19 and DPR-25, issued to Exelon Generation Company, LLC (Exelon, or the licensee) for operation of the Dresden Nuclear Power Station, Units 2 and 3, located in Grundy County, Illinois. Therefore, as required by 10 CFR 51.21, the NRC is issuing this environmental assessment and finding of no significant impact.

Environmental Assessment

Identification of the Proposed Action

The proposed action would grant a schedular exemption for Dresden Nuclear Power Station (DNPS), Units 2 and 3, from implementation of inservice examinations of the reactor pressure vessel (RPV) vertical welds and the top shell course to vessel flange weld, per American Society of Mechanical Engineers (ASME) Boiler and Pressure Vessel Code Section XI, Table IWB-2500, items B1.12 and B1.30, by the end of the current ten year intervals, as required by 10 CFR 50.55a, “Codes and standards,” paragraph (g)(6)(ii)(A)(2). The current intervals end on January 19, 2003, for DNPS Unit 2 and October 31, 2002, for DNPS Unit 3. This schedular exemption requests an extension for the performance of the third interval inspections of these welds until the completion of the D2R18 outage for Unit 2 in October 2003, and until the completion of the D3R18 outage in October 2004 for Unit 3.

The proposed action is in accordance with the licensee's application dated June 12, 2001, as supplemented by letter dated July 23, 2001.

The Need for the Proposed Action

The proposed schedular exemption is needed to prevent an extension of the upcoming refueling outages. 10 CFR 50.55a(g)(6)(ii)(A)(2) requires DNPS to perform an examination of its RPV welds during the current ten-year inspection interval which concludes for each unit during the upcoming refueling outages, D2R17 and D3R17, scheduled for October 2001 and September 2002, respectively. Using conventional equipment, the licensee could fulfill this commitment during the upcoming refueling outages and perform examinations of approximately 60 percent of the RPV welds which is typical for similar BWR plants. However, the licensee has proposed to implement the improved AIRIS 21 system technology which will provide increased RPV weld coverage. The AIRIS 21 system, which requires additional refueling bridge support in order to perform inspections, would add approximately 64 hours of critical time to each refueling outage. In lieu of extending the refueling outages, the licensee has proposed to spread the RPV weld examinations over the next two refueling outages for both DNPS Units 2 and 3. A one-cycle extension would allow optimum coverage without imposing production penalties associated with a refueling outage extension.

10 CFR 50.12 permits the Nuclear Regulatory Commission to grant exemptions which are authorized by law, will not present undue risk to the health and safety of the public, and are consistent with the common defense and security, provided that special circumstances are present. Pursuant to 10 CFR 51.12 (a)(2), the Commission believes that special circumstances exist in that the requested schedular extension is required to prevent extended shutdown of DNPS, Units 2 and 3. Preparations for a refueling outage are proceeding based on a scheduled shutdown in October 2001. An extended outage would present undue hardship and costs due to lost generation. The requested exemption will only provide temporary relief from the applicable regulation and does not jeopardize the health and safety of the public.

Environmental Impacts of the Proposed Action

The NRC has completed its evaluation of the proposed action and concludes that there are no significant adverse environmental impacts associated with the proposed action.

The proposed action will not significantly increase the probability or consequences of accidents, no changes are being made in the types of any effluents that may be released offsite, and there is no significant increase in occupational or public radiation exposure. Therefore, there are no significant radiological environmental impacts associated with the proposed action.

With regard to potential non-radiological environmental impacts, the proposed action does not have a potential to affect any historic sites. It does not affect non-radiological plant effluents and has no other environmental impact. Therefore, there are no significant non-radiological impacts associated with the proposed action.

Accordingly, the Commission concludes that there are no significant environmental impacts associated with the proposed action.

Environmental Impacts of the Alternatives to the Proposed Action

As an alternative to the proposed action, the staff considered denial of the proposed action (i.e., the “no action” alternative). Denial of the application would result in no change in current environmental impacts. The environmental impacts of the proposed action and the alternative action are similar.

Alternative Use of Resources

The action does not involve the use of any different resource than those previously considered in the Final Environmental Statement for the Dresden Nuclear Power Station, Units 2 and 3, dated November 1973.

Agencies and Persons Consulted

On July 24, 2001, the staff consulted with the Illinois State official, Frank Niziolek, of the Illinois Department of Nuclear Safety, regarding the environmental impact of the proposed action. The State official had no comments.

Finding of No Significant Impact

On the basis of the environmental assessment, the NRC concludes that the proposed action will not have a significant effect on the quality of the human environment. Accordingly, the Commission has determined not to prepare an environmental impact statement for the proposed action.

For further details with respect to the proposed action, see the licensee's letter dated June 12, 2001, as supplemented by letter dated July 23, 2001. Documents may be examined, and/or copied for a fee, at the NRC's Public Document Room (PDR), located at One White Flint North, 11555 Rockville Pike (first floor), Rockville, Maryland. Publicly available records will be accessible electronically from the ADAMS Public Library component on the NRC Web site, http://www.nrc.gov (the Public Electronic Reading Room). If you do not have access to ADAMS or if there are problems in accessing the documents located in ADAMS, contact the NRC PDR Reference staff at 1-800-397-4209, or 301-415-4737, or by e-mail at pdr@nrc.gov.

Dated at Rockville, Maryland, this 10th day of September 2001.
For The Nuclear Regulatory Commission.
Anthony J. Mendiola,
Chief, Section 2, Project Directorate III, Division of Licensing Project Management, Office of Nuclear Reactor Regulation.

[FR Doc. 01-24336 Filed 9-27-01; 8:45 am]

BILLING CODE 7590-01-P